DEPARTMENT OF LABOR

Employment and Training Administration

[TA-W-54,149]

Schott Scientific Glass, Inc., Parkersburg, WV; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on February 23, 2004, applicable to workers of Schott Scientific Glass, Inc., Parkersburg, West Virginia. The notice will be published soon in the Federal Register.

At the request of the State agency, the Department reviewed the certification for workers of the subject firm. The workers produce tubing and are not separately identifiable by product line.

New findings show that there was a previous certification, TA-W-40,263, issued on February 20, 2002, for workers of Schott Scientific Glass, Inc., Parkersburg, West Virginia who were engaged in employment related to the production of tubing. That certification expired February 20, 2004. To avoid an overlap in worker group coverage, the certification is being amended to change the impact date from February 2, 2003 to February 21, 2004, for workers of the subject firm.

The amended notice applicable to TA-W-54,149 is hereby issued as follows:

All workers of Schott Scientific Glass, Inc., Parkersburg, West Virginia, who became totally or partially separated from employment on or after February 21, 2004, through February 23, 2006, are eligible to apply for adjustment assistance under section 223, and alternative trade adjustment assistance under section 246 of the Trade Act of 1074.

Signed in Washington, DC, this 1st day of April, 2004.
Richard Church,
Certifying Officer, Division of Trade Adjustment Assistance.

[FR Doc. E4-858 Filed 4-15-04; 8:45 am]

BILLING CODE 4510-13-P